POSTAL SERVICE

Market Test of Experimental Product: “Alternative Postage Payment Method for Greeting Cards”

AGENCY: Postal Service™.

ACTION: Notice.

SUMMARY: The Postal Service gives notice of a market test of an experimental product in accordance with statutory requirements.

DATES: November 22, 2010.

FOR FURTHER INFORMATION CONTACT: David H. Rubin, 202-268-2986.

SUPPLEMENTARY INFORMATION: The United States Postal Service® hereby gives notice pursuant to 39 U.S.C. 3641(c)(1) that it will begin a market test of its “Alternative Postage Payment Method for Greeting Cards” experimental product on January 2, 2011. The Postal Service has filed with the Postal Regulatory Commission a notice setting out the basis for the Postal Service's determination that the market test is covered by 39 U.S.C. 3641 and describing the nature and scope of the market test. Documents are available at http://www.prc.gov, Docket No. MT2011-1.

Neva R. Watson,
Attorney, Legislative.

[FR Doc. 2010-29288 Filed 11-19-10; 8:45 am]

BILLING CODE 7710-12-P